SMALL BUSINESS ADMINISTRATION

Public Federal Regulatory Enforcement Fairness Roundtable; Region VI Regulatory Fairness Board

The Small Business Administration Region VI Regulatory Fairness Board and the SBA Office of the National Ombudsman will hold a Public Roundtable on Thursday, February 12, 2004, at 8:30 a.m. at the New Orleans Airport Plaza Hotel, 2150 Veterans Blvd., Kenner, Louisiana 70062, to provide small business owners and representatives of trade associations with an opportunity to share information concerning the Federal regulatory enforcement and compliance environment.

Anyone wishing to attend or to make a presentation must contact Loretta Poree in writing or by fax, in order to be put on the agenda. Loretta Poree, Business Development Specialist, SBA Louisiana District Office, 365 Canal Street, Suite 2820, New Orleans, LA 70130, phone (504) 589-2853, fax (504) 589-2793, e-mail: loretta.poree@sba.gov.

For more information, see our Web site at www.sba.gov/ombudsman.

Dated: January 16, 2004.
Peter Sorum,
National Ombudsman (Acting).

[FR Doc. 04-1395 Filed 1-22-04; 8:45 am]

BILLING CODE 8025-01-P